OFFICE OF PERSONNEL MANAGEMENT

OPM.GOV Feedback Tab Survey 3206—NEW

AGENCY: Office of Personnel Management.

ACTION: 30-Day notice and request for comments.

SUMMARY: The Office of Personnel Management (OPM) offers the general public and other federal agencies the opportunity to comment on a new information collection request (ICR) 3206-NEW, the OPM.GOV Feedback tab survey. As required by the Paperwork Reduction Act of 1995, (Pub. L. 104-13, 44 U.S.C. chapter 35) as amended by the Clinger-Cohen Act (Pub. L. 104-106), OPM is soliciting comments for this collection. The information collection was previously published in the Federal Register (81 FR 41608, June 27, 2016) allowing for a 60-day public comment period. No comments were received for this information collection. The purpose of this notice is to allow an additional 30 days for public comments.

DATES: Comments are encouraged and will be accepted until October 28, 2016. This process is conducted in accordance with 5 CFR 1320.1.

ADDRESSES: Interested persons are invited to submit written comments on the proposed information collection to the Office of Information and Regulatory Affairs, Office of Management Budget, 725 17th Street NW., Washington, DC 20503, Attention: Desk Officer for the Office of Personnel Management or sent via electronic mail to oira_submission@omb.eop.gov or faxed to (202) 395-6974.

FOR FURTHER INFORMATION CONTACT: A copy of this ICR, with applicable supporting documentation, may be obtained by contacting the Office of Information and Regulatory Affairs, Office of Management Budget, 725 17th Street NW., Washington, DC 20503, Attention: Desk Officer for the Office of Personnel Management or sent via electronic mail to oira_submission@omb.eop.gov or faxed to (202) 395-6974.

SUPPLEMENTARY INFORMATION: The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Overview: This survey will be accessed through a feedback tab that will appear on each subpage of the www.opm.gov Web site. OPM has enhanced its focus on customer service by making it a goal in the FY 2014-2018 Strategic Plan (Goal 2). OPM is also part of the Customer Service Cross-Agency Priority Goal Community of Practice. This survey will provide the agency with relevant information, particularly in support of performance measures for Strategic Goal 2.

Analysis

Agency: Office of Personnel Management.

Title: OPM.GOV Feedback Tab Survey.

OMB Number: 3206-NEW.

Frequency: Continuous access to the survey link.

Affected Public: Individuals who visit OPM.GOV.

Number of Respondents: Unknown at this time, as survey will be administered via “open participation.” No firm sample size exists; however, target completion is between 30,000 and 60,000 unique responses over the span of a year.

Estimated Time per Respondent: 7-10 minutes.

Total Burden Hours: 7-10 minutes.

U.S. Office of Personnel Management.
Beth F. Cobert,
Acting Director.

[FR Doc. 2016-23353 Filed 9-27-16; 8:45 am]

BILLING CODE 6325-38-P